DEPARTMENT OF DEFENSE

Defense Acquisition Regulations System

[Docket Number DARS-2013-0049]

Submission for OMB Review; Comment Request

ACTION: Notice.

The Defense Acquisition Regulations System has submitted to OMB for clearance, the following proposal for collection of information under the provisions of the Paperwork Reduction Act (44 U.S.C. chapter 35).

DATES: Consideration will be given to all comments received by February 21, 2014.

Title, Associated Form, and OMB Number: Defense Federal Acquisition Regulation Supplement (DFARS) part 237, Service Contracting, and associated clauses at DFARS 252-237-7000, Notice of Special Standards of Responsibility; 252.237-7011, Preparation History, and DD Form 2063, Record of Preparation and Disposition of Remains (Within CONUS); 252.237-7023, Continuation of Essential Contractor Services; and 252.237-7024, Notice of Continuation of Essential Contractor Services; OMB Control Number 0704-0231, which incorporates the annual reporting burden previously approved under OMB Control Number 0704-0465.

Type of Request: Extension.

Number of Respondents: 7,810.

Responses per Respondent: 1.22.

Annual Responses: 9,560.

Average Burden per Response: Approximately 1.87 hours.

Annual Burden Hours: 17,905.

Needs and Uses: This information collection is used by contracting officers for the following purposes:

(1) Audit Services. The clause at 252-237-7000 is used to provide information that enables verification that the apparently successful offeror for audit services is licensed by the cognizant licensing authority in the state or other political jurisdiction where the offeror operates its professional practice.

(2) Mortuary Services. The clause at DFARS 252.237-7011 and DD Form 2063 are used (a) to ensure the mortuary contractor has properly prepared the body, and (b) by the contract carrier, so that the body can be shipped by that carrier. When additional preparation of the body is required subsequent to shipment, information regarding the initial preparation of the body may be used by the mortuary services contractor to whom the body has been shipped.

(3) Continuation of Essential Services. The provision at DFARS 252.237-7024 requires offerors to submit with its offer a written plan describing how it will continue to perform essential contractor services during periods of crisis. The associated clause at 252.237-7023 requires the contractor to maintain and update its plan as necessary.

Affected Public: Businesses or other for-profit entities and not-for-profit institutions.

Frequency: On occasion.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

Federal eRulemaking Portal: http://www.regulations.gov. Follow the instructions for submitting comments.

Instructions: All submissions received must include the agency name, docket number, and title for the Federal Register document. The general policy for comments and other public submissions from members of the public is to make these submissions available for public viewing on the internet at http://www.regulations.gov as they are received without change, including any personal identifiers or contact information provided. To confirm receipt of your comment(s), please check http://www.regulations.gov approximately two to three days after submission to verify posting (except allow 30 days for posting of comments submitted by mail).

DoD Clearance Officer: Ms. Patricia Toppings.

Written requests for copies of the information collection proposal should be sent to Ms. Toppings at WHS/ESD/Information Management Division, 4800 Mark Center Drive, 2nd Floor, East Tower, Suite 02G09, Alexandria, VA 22350-3100.

Manuel Quinones,
Editor, Defense Acquisition Regulations System.

[FR Doc. 2014-01132 Filed 1-21-14; 8:45 am]

BILLING CODE 5001-06-P